DEPARTMENT OF DEFENSE

Department of Army; Corps of Engineers

Intent To Prepare a Draft Environmental Impact Statement for Va Shly'ay Akimel Salt River Restoration Project, Maricopa County, AZ

AGENCY: U.S. Army Corps of Engineers, DoD.

ACTION: Notice of intent.

SUMMARY: The Los Angeles District intends to prepare an Environmental Impact Statement (EIS) to support the proposed study for the Salt River Pima-Maricopa Indian Community and the City of Mesa. The Va Shly'ay Akimel study area is located in the upper Sonoran Desert in the Salt River watershed. It includes portions of the Salt River Pima-Maricopa Indian Community and the City of Mesa, and includes upland ares around the vicinity of the Salt River between the Pima Freeway (US 101) and Granite Reef Dam. The study area will be refined during the course of the study to include appropriate areas of consideration in accordance with the general study objectives.

The proposed project involves restoration of riparian habitat along the Salt River in Maricopa County, also increased recreational opportunities consistent with ecosystem restoration.

ADDRESSES: Commander, U.S. Army Corps of Engineers, Attn: Stephen Dibble, CESPL-PD-RN, Los Angeles District, Ecosystem Planning Section, P.O. Box 532711, Los Angeles, CA 90053-2325.

FOR FURTHER INFORMATION CONTACT: Mr. Stephen Dibble, Environmental Manager, at (213) 452-3849. He can also be reached by e-mail at ddibble@spl.usace.army.mil.

SUPPLEMENTARY INFORMATION: 1. Study Authority: This study would be conducted under two separate authorities provided by Congress. The first and most recent authority is provided by House Resolution 2425 (HR 2425), dated May 17, 1994. The second authority is given in Public Law 761, Seventy-fifth Congress, known as Section 6 of the Flood Control Act of 1938.

2. Proposed Action: Provide for restoration of riparian habitat, increase recreation facilities, and flood protection. The U.S. Army Corps of Engineers (USACE) intends to prepare a Draft EIS to assess the environmental effects associated with the proposed VA Shly'ay Akimel project. The Environmental Impact Statement will evaluate impacts of viable alternatives along with a No Action Alternative. Resources categories that will be analyzed in the EIS are: land use, physical environment, geology, biological, agricultural, air quality, water quality, groundwater, recreational usage, aesthetics, cultural resources, transportation/communications, hazardous waste, socioeconomic and safety. The public will have the opportunity to comment on this analysis before any action is taken to implement the proposed action.

3. Scoping Process: The Corps will conduct a scoping meeting prior to preparing the Environmental Impact Statement to aid in determining the significant environmental issues associated with the proposed action. The public, as well as Federal, State, and local agencies are encouraged to participate in the scoping process by submitting data, information, and comments identifying relevant environmental and socioeconomic issues to be addressed in the environmental analysis. Useful information includes other environmental studies, published and unpublished data, alternatives that should be addressed in the analysis, and potential mitigation measures associated with the proposed action.

A public scoping meeting will be held in conjunction with the local sponsor to discuss the project scope and invite public participation in developing alternatives for the project. Individuals and agencies may offer information or data relevant to the environmental or socioeconomic impacts by attending the public scoping meeting, or by mailing the information to the above address.

4. Public Scoping Meeting: A public scoping meeting will be held in November 2001. The location, date, and time of the public scoping meeting will be announced by means of letter, public announcements and news releases.

Luz D. Ortiz,
Army Federal Register Liaison Officer.

[FR Doc. 01-27630 Filed 11-1-01; 8:45 am]

BILLING CODE 3710-KF-M